DEPARTMENT OF HOUSING AND URBAN DEVELOPMENT

[Docket No. FR-4572-D-20]

Delegation of Authority to Regional Directors

AGENCY: Office of the Secretary, HUD.

ACTION: Notice of Delegation of Authority to Regional Directors in the HUD Regional Offices.

SUMMARY: In this notice the Deputy Secretary, through the Assistant Deputy Secretary for Field Policy and Management, delegates operational management authority to the HUD Regional Directors. The delegation provides the authority necessary to manage programs and resources located in HUD regional and field offices nationwide. Currently the Regional Directors are located in Region I (Boston, MA); Region II (New York, NY); Region III (Philadelphia, PA); Region IV (Atlanta, GA); Region V (Chicago, IL); Region VI (Ft. Worth, TX); Region VII (Kansas City, KS); Region VIII (Denver, CO); Region IX (San Francisco, CA); and Region X (Seattle, WA). Pursuant to this authority, HUD Regional Directors are delegated specific authorities pertaining to cross program coordination, personnel management, administrative management, resource management, and representation regarding matters under their respective jurisdictions. Except as otherwise specified, Regional Directors are authorized to redelegate operational management authority to Field Office Directors under their respective jurisdictions. In accordance with this delegation, performance elements will be standardized for all field managers and supervisors. In addition to overall management and supervision, the elements shall include communication, customer service, representation, equal employment opportunity, and a subject-matter specific critical element. Regional Directors are also authorized to provide input into the performance assessment of program managers in their jurisdictions. To the extent practicable, 40% weight will be given to the assessment provided by the Regional Director. This delegation further authorizes the Regional Directors to enter into co-sponsorship agreements with the concurrence of the General Counsel and the relevant program Assistant Secretary or equivalent. Under this delegation, the title of the ten Field Assistant General Counsel is changed to Regional Counsel.

EFFECTIVE DATE: March 18, 2002.

FOR FURTHER INFORMATION CONTACT: Bob Etchison, Office of Field Policy and Management, Department of Housing and Urban Development, 451 7th Street, SW, Washington, DC 20410, (202) 708-1123. (This is not a toll-free number.) This number may be accessed via TTY by calling the Federal Information Relay Service at 1-800-877-8339.) Comments or questions can be submitted through the Internet to Bob—Etchison@hud.gov.

SUPPLEMENTARY INFORMATION: These Delegations of Authority are designed to improve efficiency, effectiveness, and accountability of management operations. They are intended to provide a managerial framework, promote customer service, and encourage coordination among and within the field offices.

Accordingly, the Deputy Secretary, through the Assistant Deputy Secretary for Field Policy and Management, delegates to each Regional Director authority within his or her respective jurisdiction as follows:

Section A: Authority Delegated

1. Cross-Program Coordination. Each Regional Director is delegated the following duties to aid cooperation among different programs, program directors, and offices:

• Developing and implementing Management Plans;

• Coordinating cross-program projects and Field Office Quality Management Reviews;

• Preparing briefing papers and hot issues documents;

• Leading disaster relief efforts; and

• Consulting with program directors on major program decisions. Regional Directors can trigger Headquarter's review of decisions made by program directors. Where the Regional Director and relevant program director disagree regarding a major program decision, the Assistant Deputy Secretary for Field Policy and Management may raise the matter with the relevant Assistant Secretary or equivalent. The relevant Assistant Secretary or equivalent makes the final determination, subject to review by the Deputy Secretary, if necessary.

2. Personnel Management. Each Regional Director is delegated the following personnel management responsibilities for field offices within his or her jurisdiction:

• Providing input on the performance ratings of managers and supervisors within the region. To the extent practicable, 40% weight will be given to the assessment provided by the Regional Director. The performance for the Directors of the Homeownership Centers; Troubled Agency Recovery Centers; Administrative Service Centers; Satellite Field Directors of the Departmental Enforcement Centers; and the Regional Counsel will be evaluated within their respective organizations, with consultation provided by the Assistant Deputy Secretary for Field Policy and Management;

• Approving short-term details across program area lines (up to sixty days);

• Approving leave requests for managers and supervisors;

• Regional Directors are authorized to serve as part of the recommending and hiring process for managers and supervisors within their respective jurisdictions. The Assistant Secretary, or equivalent, makes the final selection regarding their managers and supervisors;

• Acting as supervisor, or when necessary assigning a supervisor, to out-stationed staff; and

• Managing and conducting labor/management relations.

3. Administrative Management. Each Regional Director is delegated the following administrative duties for field offices under his or her jurisdiction:

• Determining official office hours, opening, closing, and emergency procedures.

4. Resource Management. Each Regional Director is delegated the following resource allocation responsibilities under his or her jurisdiction:

• Managing the administrative budget, e.g., training, equipment, etc.;

• Approving program travel requests; and

• Redistributing up to 20% of travel funds among program areas.

5. Representation. Each Regional Director is delegated the following duties as the Region's primary contact person and HUD representative regarding:

• Developing and maintaining the lead point of contact with local officials;

• Maintaining the role as principal point of contact with industry groups;

• Managing all inquiries and correspondence, including Freedom of Information Act requests, Congressional and Intergovernmental communications;

• Responding to all media inquiries in conjunction with Headquarters and the Office of Public Affairs;

• Administering the local office's web page and internet sources;

• Monitoring and evaluating customer service; and

• Entering into co-sponsorship agreements, with the concurrence of the General Counsel and the relevant program Assistant Secretary or equivalent.

Section B: Authority Revoked

The redelegations of authority from the Assistant Secretaries to the Secretary's Representatives pertaining to the waiver of program directives and handbook provisions are revoked. These redelegations were published in the Federal Register at 61 FR 35800 (July 8, 1996) PIH; 61 FR 35801 (July 8, 1996) Housing; 61 FR 35802 (July 8, 1996) CPD; and 61 FR 35803 (July 8, 1996) FHEO. Today's delegation also revokes the further redelegations from the Secretary Representative to the Southeast/Caribbean State and Area Coordinators published in the Federal Register at 61 FR 59236 (November 21, 1996) Housing; 61 FR 59236 (November 21, 1996) PIH; 61 FR 59237 (November 21, 1996) FHEO; and FR 59237 (November 21, 1996) CPD. All previous delegated or redelegated authority inconsistent with this Delegation of Authority is hereby revoked.

Section C: Authority To Redelegate

This authority may be redelegated, as appropriate, from Regional Directors to Field Office Directors within their respective jurisdictions. The authority to enter into co-sponsorship agreements may not be redelegated below the level of Regional Director.

Authority: Section 7(d) of the Department of HUD Act, 42 U.S.C. 3535(d); 66 FR 18790, Delegation of Concurrent Authority to the Deputy Secretary (April 11, 2001).

Dated: March 18, 2002.
Alphonso Jackson,
Deputy Secretary.

[FR Doc. 02-7245 Filed 3-25-02; 8:45 am]

BILLING CODE 4210-32-P